DEPARTMENT OF HOMELAND SECURITY

Federal Emergency Management Agency

[Docket ID FEMA-2018-0002; Internal Agency Docket No. FEMA-B-1802]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before May 23, 2018.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1802, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Dated: January 25, 2018.
Roy E. Wright,
Deputy Associate Administrator for Insurance and Mitigation, Department of Homeland Security, Federal Emergency Management Agency.

Community | Community map repository address
Columbia County, Georgia and Incorporated Areas
Project: 16-04-5708S Preliminary Date: June 14, 2017
City of Grovetown | City Hall, 103 Old Wrightsboro Road, Grovetown, GA 30813.
City of Harlem | City Hall, 320 North Louisville Street, Harlem, GA 30814.
Unincorporated Areas of Columbia County | Columbia County Environmental Services Department, Engineering Services Division, 630 Ronald Reagan Drive, Building A, East Wing, Evans, GA 30809.
Tulsa County, Oklahoma and Incorporated Areas
Project: 14-06-4647S Preliminary Date: October 19, 2017
City of Tulsa | Stormwater Design Office, 2317 South Jackson Street, Suite 302, Tulsa, OK 74103.
Lackawanna County, Pennsylvania (All Jurisdictions)
Project: 07-03-0433S Preliminary Dates: July 27, 2011 and August 31, 2017
Borough of Archbald | Municipal Building, 400 Church Street, Archbald, PA 18403.
Borough of Blakely | Blakely Borough Building, 1439 Main Street, Peckville, PA 18452.
Borough of Clarks Green | Borough Building, 104 North Abington Road, Clarks Green, PA 18411.
Borough of Clarks Summit | Municipal Building, 304 South State Street, Clarks Summit, PA 18411.
Borough of Dalton | Municipal Building, 105 West Main Street, Dalton, PA 18414.
Borough of Dickson City | Municipal Building, 901 Enterprise Street, Dickson City, PA 18519.
Borough of Dunmore | Municipal Building, 400 South Blakely Street, Dunmore, PA 18512.
Borough of Jermyn | Municipal Building, 440 Jefferson Avenue, Jermyn, PA 18433.
Borough of Jessup | Municipal Building, 395 Lane Street, Jessup, PA 18434.
Borough of Mayfield | Municipal Building, 739 Penn Avenue, Mayfield, PA 18433.
Borough of Moosic | Municipal Building, 715 Main Street, Moosic, PA 18507.
Borough of Moscow | Municipal Building, 123 Van Brunt Street, Moscow, PA 18444.
Borough of Old Forge | Municipal Building, 310 South Main Street, Old Forge, PA 18518.
Borough of Olyphant | Municipal Building, 113 Willow Avenue, Olyphant, PA 18447.
Borough of Taylor | Municipal Building, 122 Union Street, Taylor, PA 18517.
Borough of Throop | Municipal Building, 436 Sanderson Street, Throop, PA 18512.
Borough of Vandling | Borough Building, 449 Hillside Street, Vandling, PA 18421.
City of Carbondale | City Hall, 1 North Main Street, Carbondale, PA 18407.
City of Scranton | Municipal Building, 340 North Washington Avenue, Scranton, PA 18503.
Township of Benton | Benton Township Maintenance Building, 2019 State Route 107, Fleetville, PA 18420.
Township of Carbondale | Carbondale Township Municipal Building, 103 School Street, Childs, PA 18407.
Township of Clifton | Municipal Building, 361 State Route 435, Clifton Township, PA 18424.
Township of Covington | Township Municipal Office, 20 Moffat Drive, Covington Township, PA 18444.
Township of Elmhurst | Municipal Building, 112 Municipal Lane, Elmhurst Township, PA 18444.
Township of Fell | Fell Township Building, 1 Veterans Drive, Simpson, PA 18407.
Township of Glenburn | Glenburn Township Municipal Building, 54 Waterford Road, Dalton, PA 18414.
Township of Greenfield | Township Volunteer Fire Company, 424 State Route 106, Greenfield Township, PA 18407.
Township of Jefferson | Township Municipal Building, 487 Cortez Road, Jefferson Township, PA 18436.
Township of La Plume | La Plume Community Map Repository, 2080 Hickory Ridge Road, Factoryville, PA 18419.
Township of Madison | Municipal Building, 3200 Madisonville Road, Madison Township, PA 18444.
Township of Newton | Newton Township Hall, 1528 Newton-Ransom Boulevard, Clarks Summit, PA 18411.
Township of North Abington | Township Hall, 138 Sullivan Road, North Abington Township, PA 18414.
Township of Ransom | Ransom Township Municipal Building, 2435 Hickory Lane, Clarks Summit, PA 18411.
Township of Roaring Brook | Municipal Building, 430 Blue Shutters Road, Roaring Brook Township, PA 18444.
Township of Scott | Joey Terry Civic Center, 1038 Montdale Road, Scott Township, PA 18447.
Township of South Abington | Municipal Building, 104 Shady Lane Road, South Abington Township, PA 18411.
Township of Spring Brook | Municipal Building, 966 State Route 307, Spring Brook Township, PA 18444.
Township of Thornhurst | Township Building, 356 Old River Road, Thornhurst, PA 18424.
Township of Waverly | Municipal Building, 1 Lake Henry Drive, Waverly, PA 18471.
Township of West Abington | West Abington Township Building, 2545 Bald Mountain Road, Clarks Summit, PA 18411.

[FR Doc. 2018-03574 Filed 2-21-18; 8:45 am]

BILLING CODE 9110-12-P